DEPARTMENT OF THE INTERIOR

Minerals Management Service

Outer Continental Shelf Civil Penalties

AGENCY: Minerals Management Service (MMS), Interior.

ACTION: Notice summarizing Outer Continental Shelf Civil Penalties paid from January 1, 2008, through December 31, 2008.

SUMMARY: This notice provides a listing of civil penalties paid from January 1, 2008, through December 31, 2008, for violations of the Outer Continental Shelf Lands Act. The goal of the MMS Outer Continental Shelf Civil Penalties Program is to assure safe and clean oil, gas, sulphur, or other minerals operations on the Outer Continental Shelf. Through the pursuit, assessment, and collection of civil penalties and referrals for the consideration of criminal penalties, the program is designed to encourage compliance with applicable statutes and regulations. The purpose of publishing the penalties summary is to provide information to the public on violations of the Outer Continental Shelf Lands Act and to provide an additional incentive for safe and environmentally sound operations.

FOR FURTHER INFORMATION CONTACT: Joanne McCammon, Program Coordinator, at 703-787-1292.

SUPPLEMENTARY INFORMATION: The Oil Pollution Act of 1990 (OPA 90) strengthened section 24 of the Outer Continental Shelf (OCS) Lands Act Amendments of 1978. Section 8201 of OPA 90 increased the amount of the civil penalty from a maximum of $10,000 to a maximum of $20,000 per violation for each day of noncompliance. More importantly, OPA 90 provided the Secretary of the Interior (Secretary) with the authority to assess a civil penalty without first providing a period of time for corrective action in cases where a failure to comply with applicable regulations constitutes or constituted a threat of serious, irreparable, or immediate harm or damage to life (including fish and other aquatic life); property; any mineral deposit; or the marine, coastal, or human environment.

The provisions of OPA 90 also require the Secretary to adjust the maximum civil penalty to reflect any increases in the Consumer Price Index (CPI). Every 3 years, MMS analyzes the maximum civil penalty amount in conjunction with the CPI prepared by the U.S. Department of Labor. If an adjustment is necessary, MMS informs the public through the Federal Register of the new maximum amount. The MMS has published regulations adjusting the civil penalty assessment to $25,000 on August 8, 1997 (62 FR 42667); to $30,000 on October 29, 2003 (68 FR 61622); and to $35,000 on February 28, 2007 (72 FR 8897).

Between August 18, 1990, when OPA 90 was enacted, and December 31, 2008, MMS initiated 648 civil penalty reviews. Operators have paid 529 civil penalties for a total of $20,752,042 in fines.

On September 1, 1997, the Associate Director of Offshore Minerals Management issued a notice informing lessees and operators of Federal oil, gas, and sulphur leases on the OCS that MMS will annually publish a summary of OCS civil penalties paid. The purpose of publishing the penalties summary is to provide information to the public on violations of the OCS Lands Act and to provide an additional incentive for safe and environmentally sound operations. The annual summary will highlight the identity of the party, a description of the violation, the amount of the penalty and date paid, and the regulation violated. The following table provides a listing of the 31 penalties paid between January 1, 2008, and December 31, 2008. The total amount collected is $2,210,250. The list is posted on the MMS's Web page at http://www.mms.gov/civilpenalties/.

2008 Civil/Criminal Penalties Summary Penalties Paid in Calendar Year 2008
[1/1/2008-12/31/2008]
Operator name and case No. | Violation and date(s) | Penalty paid and date paid | Regulation(s) violated 30 CFR
Pogo Producing Co., G-2007-009 | During the investigation of a 3/4 mile by 16 mile oil slick on November 29, 2006, the MMS Inspector discovered operators had bypassed basically the entire platform safety system including the emergency shut down to keep production online. Further investigation revealed a second pollution incident on November 21, 2006, in which oil was blown out of the flare boom leaving the platform covered with oil and causing pollution | $505,000, 2/8/2008.
| 29-NOV-2006—29-NOV-2006 |  | § 250.803(c).
| 29-NOV-2006—29-NOV-2006 |  | § 250.803(c).
| 29-NOV-2006—29-NOV-2006 |  | § 250.803(c).
| 29-NOV-2006—29-NOV-2006 |  | § 250.803(c).
| 29-NOV-2006—29-NOV-2006 |  | § 250.803(c).
| 21-NOV-2006—21-NOV-2006 |  | § 250.300(a).
| 21-NOV-2006—21-NOV-2006 |  | § 250.300(a).
| 29-NOV-2006—29-NOV-2006 |  | § 250.1004.
| 29-NOV-2006—29-NOV-2006 |  | § 250.1004.
| 29-NOV-2006—29-NOV-2006 |  | § 250.1004.
| 21-NOV-2006—29-NOV-2006 |  | § 250.107.
SPN Resources, LLC, G-2007-012 | MMS Inspectors found the accumulator with no air supply connected to it. The remote blowout preventer (BOP) control station was also found with no operating pressure on it. The Inspection also revealed that there was not a full opening work-string safety valve or TIW wrench located on the rig floor. Personnel were witnessed working greater than 6 feet above the deck with no fall protection. The Inspector also found stairs to the BOP and pipe rack to be in an unsafe location which required personnel to climb over the handrails | $100,000, 1/18/08.
| 01-SEP-2006—01-SEP-2006 |  | § 250.107(a).
| 01-SEP-2006—01-SEP-2006 |  | § 250.515(d).
| 01-SEP-2006—01-SEP-2006 |  | § 250.515(d).
| 01-SEP-2006—01-SEP-2006 |  | § 250.515(c).
| 01-SEP-2006—01-SEP-2006 |  | § 250.515(c).
| 01-SEP-2006—01-SEP-2006 |  | § 250.401.
W&T Offshore, Inc., G-2007-016 | Operator failed to properly barricade the 4′ X 4′ opening and a 7′10″ X 16″ opening during work over operations | $130,000, 3/12/2008.
| 04-APR-2007—16-APR-2007 |  | § 250.107.
Helis Oil & Gas Company, LLC (Hercules Offshore Drilling) G-2007-021 | The operator failed to supply sufficient accumulator fluid capacity required to close and hold closed the 30-inch annular installed on the diverter system | $40,000, 1/17/2008.
| 06-MAY-2007—07-MAY-2007 |  | § 250.430.
W&T Offshore, G-2007-022 | Firewater Pump low discharge pressure with two hoses opened and Aqueous Film Forming Foam Concentrate (AFFF) light water unit had lost the required pressure for the system | $145,000, 10/2/08.
| 31-MAR-2007—28-APR-2007 |  | § 250.803(b)(8).
Remington Oil and Gas Corp., G-2007-025 | Failure to properly secure grating led to an accident with injury | $45,000, 1/09/2008.
| 26-APR-2007—27-APR-2007 |  | § 250.107.
Exxon Mobil Corp., G-2007-027 | Well bypassed at the panel | $30,000, 2/29/08.
| 12-APR-2007—17 APR-2007 |  | § 250.803.
Pogo Producing Co., G-2007-029 | There was an excessive number of safety devices bypassed while bringing the platform online. With only one person watching the computer, it was impossible to safely monitor all of the bypassed devices. During these start-up operations, operators overflowed the float cell, pouring a hydrocarbon/water mixture onto the deck. Once the platform was shut-in, the operators received an alarm on the pressure safety high (PSH) for the fuel gas scrubber and there was no action taken in response to the alarm. The AFFF unit, which was protecting the wet/dry oil tanks, was found to be empty | $80,000, 2/08/2008.
| 03-APR-2007—03-APR-2007 |  | § 250.107(a).
| 03-APR-2007—03-APR-2007 |  | § 250.803(c).
| 29-MAR-2007—08-MAY-2007 |  | § 250.107.
Exxon Mobil Corp., G-2007-030 | The actuator for the compressor suction shut down valve (SDV) had been removed | $35,000, 1/14/2008.
| 13-MAY-2007—21-MAY-2007 |  | § 250.803.
Pogo Producing Co., G-2007-031 | The Inspectors noticed that the block valve for the pressure safety valve (PSV) located on the test separator had been left in the closed position. The Inspectors witnessed personnel working with no fall protection at a height greater than 6 feet above the deck. The Inspectors found that the AFFF unit which was protecting the wet/dry oil tanks contained an empty bottle; and additionally, that the valve handles had been removed from the fire monitors, which were the secondary form of protection for the wet/dry oil tanks. It was also discovered that the operator had “failed to correct” the location of the level safety high (LSH) for the sump | $150,250, 2/08/2008.
| 29-MAR-2007—30-MAR-2007 |  | § 250.803(c).
| 30-MAR-2007—30-MAR-2007 |  | § 250.107(a).
| 30-MAR-2007—30-MAR-2007 |  | § 250.107.
| 30-MAR-2007—30-MAR-2007 |  | § 250.107.
| 30-MAR-2007—30-MAR-2007 |  | § 250.107.
Pogo Producing Co., G-2007-033 | Temperature safety element (TSE) on the rental generator was found with the block valve closed on the supply line, rendering the TSE inoperable | $25,000, 2/11/2008.
| 17-MAY-2007—17-MAY-2007 |  | § 250.803.
Pogo Producing Co., G-2007-034 | Gas-lift line was open ended with 1,000 psi on the down stream side of the check valve and the gas-lift header was found with 700 psi on it and all flanges associated with the header had missing bolts | $40,000, 2/11/2008.
| 17-MAY-2007—17-MAY-2007 |  | § 250.107.
| 17-MAY-2007—17-MAY-2007 |  | § 250.107.
Forest Oil Corp., G-2007-035 | During welding/cutting operations to remove a cantilever deck, a fire/explosion occurred when hot slag fell between 10 and 15 feet into an open ended connection on top of the out of service oil storage tank | $35,000, 3/31/08.
| 26-JUN-2007—26-JUN-2007 |  | § 250.401.
Palm Energy Offshore, LLC, G-2007-037 | The top block valve on the LSH fluid chamber was found closed | $15,000, 2/11/2008.
| 10-JUL-2007—10-JUL-2007 |  | § 250.803
Energy XXI GOM, LLC, G-2007-039 | There was a closed block valve upstream of the PSV on the First Stage Suction Scrubber which rendered the PSV inoperable. Also, the Surface Controlled Subsurface Safety Valve (SCSSV) was found with pressure trapped on the control line which locked open the SCSSV | $15,000, 1/17/2008.
| 11-JUL-2007—11-JUL-2007 |  | § 250.803(c).
| 11-JUL-2007—11-JUL-2007 |  | § 250.803(c).
Energy Resource Technology, Inc., G-2007-041 | A pollution event of less than 200 bbls, seventeen safety devices not tested prior to initiating production, leaking gas from 2” line, and four safety devices bypassed | $135,000, 9/26/08.
| 14-MAY-2007—17 MAY 2007 |  | § 250.101.
| 15-MAY-2007—17 MAY 2007 |  | § 250.107.
| 17-MAY-2007—17 MAY 2007 |  | § 250.300(a).
Apache Corp. (Island Operators, Inc.) G-2007-043 | A flash fire that resulted in an injury, occurred since a flowline had not been properly isolated or blind flanged from the process header. The welder was injured when his torch came in contact with hydrocarbons that were released through the open ended flowline | $85,000, 4/29/08.
| 05-SEP-2007—07-SEP-2007 |  | § 250.803(c).
W&T Offshore, Inc., G-2007-044 | Lead sump pump inoperable | $35,000, 4/11/08.
| 21-JUN-2007—21-JUN-2007 |  | § 250.300(b).
Nexen Petroleum U.S.A., Inc., G-2008-001 | The pneumatic fire detection system installed over the gas generator was found inoperable since the TSE was not connected to the supply line | $15,000, 5/9/08.
| 02-NOV-2007—02-NOV-2007 |  | § 250.803(c).
Linder Oil Company, A Partnership, G-2008-003 | MMS Inspectors found the Surface Safety Valve (SSV) and Wing SDV on Well #4 bypassed with fusible caps. There was also a 1 inch open ended line on the fuel gas header where a PSV had been removed | $180,000, 8/7/08.
| 03-DEC-2007—07-DEC-2007 |  | § 250.803(c).
| 03-DEC-2007—10-DEC-2007 |  | § 250.803(c).
Forest Oil Corporation, G-2008-004 | The SCSSV for the B-1 well was bypassed at the panel for a total of 6 days | $60,000, 12/30/08.
| 01-DEC-2007—06-DEC-2007 |  | § 250.803(c)(1).
Dauphin Island Gathering Partners, G-2008-005 | The handrails on the north end of the well bay had not been maintained in a safe condition. The handrails were corroded and deteriorated to a point that they were no longer a suitable guard and they could not adequately hold a person's weight | $25,000, 8/5/08.
| 08-NOV-2007—08-NOV-2007 |  | § 250.107.
Apache Corporation, G-2008-006 | Repairs were made to the damaged crane boom that was not in accordance with API RP 2D, Section 4.3.3(e) and the crane was placed back in service without conducting a load test | $50,000, 7/25/08.
| 14-JAN-2008—15-JAN-2008 |  | § 250.108.
Dominion Exploration & Production, Inc., g-2008-008 | The PSV for the Glycol Contactor was bypassed with a closed manual block valve | $5,000, 8/29/08.
| 28-NOV-2006—28-NOV-2006 |  | § 250.803(c).
Marathon Oil Co., G-2008-009 | The MMS Inspector found that the SCSSV and the vertical run SSV had been rendered inoperable. The SCSSV was blocked at the supply line; and the SSV was locked in the open position with a nonfusible cap | $30,000, 7/14/08.
| 18-DEC-2007—18-DEC-2007 |  | § 250.803(c).
McMoRan Oil & Gas LLC, G-2008-011 | The cantilever deck was not properly guard railed or barricaded | $15,000, 9/25/08.
| 14-APR-2008—14-APR-2008 |  | § 250.107
Medco Energi U.S. LLC, G-2008-012 | Unsafe situations were discovered by the MMS Inspector on four Caissons. Equipment had not been maintained in a safe manner and precautions had not been made to provide for the safety of personnel | $75,000, 11/21/08.
| 06-MAY-2008—06-MAY-2008 |  | § 250.107(a)(2).
| 06-MAY-2008—06-MAY-2008 |  | § 250.107(a)(2).
| 06-MAY-2008—06-MAY-2008 |  | § 250.107(a)(2).
| 06-MAY-2008—06-MAY-2008 |  | § 250.107(a)(2).
| 06-MAY-2008—06-MAY-2008 |  | § 250.107(b).
| 06-MAY-2008—06-MAY-2008 |  | § 250.107(b).
| 29-APR-2008—29-APR-2008 |  | § 250.107(b).
SPN Resources, LLC, G-2008-017 | A section of grating on the boat landing was severely corroded and damaged, creating a large opening that was unsafe for personnel. There was no barricade or guard to restrict the area and alert personnel of the hazard | $15,000, 12/30/08.
| 10-JUL-2008—10-JUL-2008 |  | § 250.107.
Plains Exploration & Production Company, P-2006-002 | A flash fire involving a flare scrubber vessel resulted in minor burns to an employee. Work involving a glycol skid did not follow operator's safety manual | $40,000, 4/8/08.
| 18-JUL-2006—18-JUL-2006 |  | § 250.803(b)(1).
| 18-JUL-2006—18-JUL-2006 |  | § 250.803(b)(1).
DCOR LLC, P-2006-003 | Five Incidents of Non-Compliance were issued following a 7/27/06 incident that resulted in significant damage to the unit crane during an operation to remove stuck progressive cavity pump rods | $35,000, 1/30/2008.
| 27-JUL-2006—27-JUL-2006 |  | § 250.107(a).
| 27-JUL-2006—27-JUL-2006 |  | § 250.108.
| 27-JUL-2006—27-JUL-2006 |  | § 250.108.
| 27-JUL-2006—27-JUL-2006 |  | § 250.108.
| 27-JUL-2006—27-JUL-2006 |  | § 250.606.
Arguello Inc., P-2006-004 | During rerouting of gas flow (in connection with drilling rig demobilization and work on the condensate stabilizer vessel) a valve was erroneously opened resulting in H2S exposure | $20,000, 4/8/08.
| 12-AUG-2006—12-AUG-2006 |  | § 250.107(a).
Total Penalties Paid: 1/1/08-12/31/08
31 Cases: $2,210,250

Authority: 43 U.S.C. 1331 et seq.

Dated: March 12, 2009.
Chris C. Oynes,
Associate Director for Offshore Energy and Minerals Management.

[FR Doc. E9-7061 Filed 3-27-09; 8:45 am]

BILLING CODE 4310-MR-P